DEPARTMENT OF COMMERCE

National Oceanic and Atmospheric Administration

[I.D. 010804C]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a joint meeting of its Law Enforcement Committee and Advisory Panel to review Committee reports, current regulations for enhancement of compliance, and develop Committee priorities.

DATES: The joint meeting will take place February 3-4, 2004. Meeting participants will meet from 1:30 p.m. until 5 p.m. on February 3, 2004 and again from 8:30 a.m. until 4 p.m. on February 4, 2004.

ADDRESSES: The meeting will be held at the Town and Country Inn, 2008 Savannah Highway, Charleston, SC 29407; telephone: 800/334-6660 or 843/571-1000.

FOR FURTHER INFORMATION CONTACT: Kim Iverson, Public Information Officer, South Atlantic Fishery Management Council, One Southpark Circle, Suite 306, Charleston, SC 29407; telephone: 843/571-4366 or 866/SAFMC-10; fax: 843/769-4520.

SUPPLEMENTARY INFORMATION: Items for discussion at the joint meeting include but are not limited to: (1) a review of the Committee Report "Precepts for Efficient Fisheries Enforcement"; (2) a review of current mackerel regulations for enhancement of compliance; and (3) the development of near and long-term priorities for the Law Enforcement Committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by February 2, 2004.

Dated: January 12, 2004.
Peter H. Fricke,
Acting Director, Office of Sustainable Fisheries, National Marine Fisheries Service.

[FR Doc. 04-1007 Filed 1-15-04; 8:45 am]

BILLING CODE 3510-22-S